DEPARTMENT OF LABOR

Employment and Training Administration

[TA-W-36,973]

Heidelberg Publishing Services, Inc., Formerly Known as Linotype-Hell Company, Now Known as Heidelberg USA, Inc., Also Heidelberg Digital, Inc., a/k/a Eastman Kodak, Melville, NY; Amended Certification Regarding Eligibility To Apply for Worker Adjustment Assistance

In accordance with section 223 of the Trade Act of 1974 (19 USC 2273) the Department of Labor issued a Certification of Eligibility to Apply for Worker Adjustment Assistance on November 16, 1999, applicable to workers of Heidelberg Publishing Services, Melville, New York. The notice was published in the Federal Register on December 28, 1999 (64 FR 72692).

At the request of the State agency, the Department reviewed the certification for workers of the subject firm. The workers were engaged in the production of imagesetting machines. New information received from the company shows that Heidelberg Publishing Services, Inc. formerly known as Linotype-Hell Company, merged with Heidelberg USA, Inc. in December, 1999 and is now known as Heidelberg USA, Inc; also Heidelberg Digital, Inc., a/k/a Eastman Kodak. Information also shows that workers separated after December, 1999 from employment at the subject firm, had their wages reported under several separate unemployment insurance (UI) tax accounts: Heidelberg Publishing Services, Inc., formerly known as Linotype-Hell Company, now known as Heidelberg USA, Inc; also Heidelberg, Digital, Inc., a/k/a Eastman Kodak. Accordingly, the Department is amending the certification to properly reflect this matter.

The amended notice applicable to TA-W-36,973 is hereby issued as follows:

All workers of Heidelberg Publishing Services, Inc., formerly known as Linotype-Hell Company, now known as Heidelberg USA, Inc; also Heidelberg Digital, Inc., a/k/a Eastman Kodak, Melville, New York who became totally or partially separated from employment on or after October 5, 1998 through November 16, 2001 are eligible to apply for adjustment assistance under Section 223 of the Trade Act of 1974.

Signed at Washington, DC this 3rd day of April, 2001.
Linda G. Poole,
Certifying Officer, Division of Trade Adjustment Assistance.

[FR Doc. 01-9218 Filed 4-12-01; 8:45 am]

BILLING CODE 4510-30-M